DEPARTMENT OF TRANSPORTATION

Federal Aviation Administration

14 CFR Part 39

[Docket No. FAA-2021-0611; Project Identifier MCAI-2021-00038-R]

RIN 2120-AA64

Airworthiness Directives; Airbus Helicopters Deutschland GmbH Helicopters

AGENCY: Federal Aviation Administration (FAA), DOT.

ACTION: Notice of proposed rulemaking (NPRM).

SUMMARY: The FAA proposes to supersede Airworthiness Directive (AD) 2019-05-06, which applies to Airbus Helicopters Deutschland GmbH (Airbus Helicopters) Model EC135P1, EC135P2, EC135P2+, EC135P3, EC135T1, EC135T2, EC135T2+, and EC135T3 helicopters. AD 2019-05-06 requires replacing the retaining ring, inspecting the hoist cable hook assembly, and, if necessary, replacing the elastomeric energy absorber. Since the FAA issued AD 2019-05-06 the design approval holder (DAH) has designed an updated hook assembly, which, when installed, terminates the repetitive inspections required by AD 2019-05-06. This proposed AD would continue to require the actions specified in AD 2019-05-06, and would also require a modification or replacement of the hoist cable hook assembly that would terminate the repetitive inspections and retaining ring replacements, as specified in a European Union Aviation Safety Agency (EASA) AD, which is proposed for incorporation by reference (IBR). The FAA is proposing this AD to address the unsafe condition on these products.

DATES: The FAA must receive comments on this proposed AD by September 17, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is proposed for IBR in this AD, contact the EASA, Konrad-Adenauer-Ufer 3, 50668 Cologne, Germany; phone: +49 221 8999 000; email: ADs@easa.europa.eu; internet: www.easa.europa.eu. You may find this IBR material on the EASA website at https://ad.easa.europa.eu. For Goodrich service information identified in this AD, contact Airbus Helicopters, 2701 N Forum Drive, Grand Prairie, TX 75052; telephone (972) 641-0000 or (800) 232-0323; fax (972) 641-3775; or at https://www.airbus.com/helicopters/services/technical-support.html. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2021-0611.

Examining the AD Docket

You may examine the AD docket on the internet at https://www.regulations.gov by searching for and locating Docket No. FAA-2021-0611; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Jacob Fitch, Aerospace Engineer, COS Program Management Section, Operational Safety Branch, Compliance & Airworthiness Division, FAA, 10101 Hillwood Pkwy., Fort Worth, TX 76177; phone: (817) 222-4130; email: jacob.fitch@faa.gov.

SUPPLEMENTARY INFORMATION:

Comments Invited

The FAA invites you to send any written relevant data, views, or arguments about this proposal. Send your comments to an address listed under ADDRESSES. Include “Docket No. FAA-2021-0611; Project Identifier MCAI-2021-00038-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Jacob Fitch, Aerospace Engineer, COS Program Management Section, Operational Safety Branch, Compliance & Airworthiness Division, FAA, 10101 Hillwood Pkwy., Fort Worth, TX 76177; phone: (817) 222-4130; email: jacob.fitch@faa.gov. Any commentary that the FAA receives that is not specifically designated as CBI will be placed in the public docket for this rulemaking.

Background

The FAA issued AD 2019-05-06, Amendment 39-19588 (84 FR 8961, March 13, 2019) (AD 2019-05-06), which applies to Airbus Helicopters Model EC135P1, EC135P2, EC135P2+, EC135P3, EC135T1, EC135T2, EC135T2+, and EC135T3 helicopters. AD 2019-05-06 requires replacing the retaining ring, inspecting the hoist cable hook assembly, and, if necessary, replacing the elastomeric energy absorber. The FAA issued AD 2019-05-06 to address detachment of a hook assembly from an external mounted hoist cable resulting in in-flight failure of the hoist assembly, which could result in injury to persons being lifted.

Actions Since AD 2019-05-06 Was Issued

Since the FAA issued AD 2019-05-06, the DAH has designed an updated hook assembly, which, when installed terminates the repetitive inspections required by AD 2019-05-06.

The EASA, which is the Technical Agent for the Member States of the European Union, has issued EASA AD 2021-0011, dated January 12, 2021 (EASA AD 2021-0011) (also referred to as the Mandatory Continuing Airworthiness Information, or the MCAI), to correct an unsafe condition for Airbus Helicopters Deutschland GmbH (AHD) (formerly Eurocopter Deutschland GmbH, Eurocopter España S.A.) Model EC135P1, EC135P2, EC135P2+, EC135P3, EC135T1, EC135T2, EC135T2+, EC135T3, EC635P2+, EC635P3, EC635T1, EC635T2+ and EC635T3 helicopters, all serial numbers up to 1276 inclusive. Model EC635P2+, EC635P3, EC635T1, EC635T2+, and EC635T3 helicopters are not certificated by the FAA and are not included on the U.S. type certificate data sheet except where the U.S. type certificate data sheet explains that the Model EC635T2+ helicopter having serial number 0858 was converted from Model EC635T2+ to Model EC135T2+; this proposed AD therefore does not include those helicopters in the applicability.

This proposed AD was prompted by a report that a hook detached from the hoist cable. The FAA is proposing this AD to address detachment of a hook from a hoist cable resulting in in-flight failure of the hoist, which could result in injury to persons being lifted. See the MCAI for additional background information.

Related Service Information Under 1 CFR Part 51

EASA AD 2021-0011 specifies procedures for replacing the retaining ring; inspecting the hoist cable hook assembly; replacing the elastomeric energy absorber; and modifying the hoist cable hook assembly or replacing an affected hoist with a serviceable hoist, which terminates the repetitive inspections and replacements.

This proposed AD also requires Goodrich Service Bulletin No. 44301-10-17, Revision 4, dated July 26, 2017, which the Director of the Federal Register approved for incorporation by reference as of April 17, 2019 (84 FR 8961).

This material is reasonably available because the interested parties have access to it through their normal course of business or by the means identified in the ADDRESSES section.

Other Related Service Information

Airbus Helicopters has issued Alert Service Bulletin No. ASB EC135-85A-069, Revision 0, dated August 2, 2017. The service information describes procedures for inspecting each affected hook assembly, replacing the retaining ring, and replacing the elastomeric energy absorber.

FAA's Determination and Requirements of This Proposed AD

These products have been approved by the aviation authority of another country, and are approved for operation in the United States. Pursuant to the bilateral agreement with the State of Design Authority, the FAA has been notified of the unsafe condition described in the MCAI referenced above. The FAA is proposing this AD after evaluating all the relevant information and determining the unsafe condition described previously is likely to exist or develop in other products of these same type designs.

Proposed AD Requirements

This proposed AD would require replacing the retaining ring, inspecting the hoist cable hook assembly, and, if necessary, replacing the elastomeric energy absorber. This proposed AD would also require accomplishing the actions specified in EASA AD 2021-0011 described previously, as incorporated by reference, except for any differences identified as exceptions in the regulatory text of this proposed AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2021-0011 will be incorporated by reference in the FAA final rule. This proposed AD would, therefore, require compliance with EASA AD 2021-0011 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2021-0011 that is required for compliance with EASA AD 2021-0011 will be available on the internet at https://www.regulations.gov by searching for and locating Docket No. FAA-2021-0611 after the FAA final rule is published.

Costs of Compliance

The FAA estimates that this proposed AD affects 341 helicopters of U.S. registry. The FAA estimates the following costs to comply with this proposed AD:

Estimated Costs for Required Actions
Action | Labor cost | Parts cost | Cost per product | Cost on U.S. operators
Retained inspections and replacements of the retaining ring from AD 2019-05-06 | 0.50 work-hour × $85 per hour = $42.50 | Minimal | $42.50, per inspection cycle | Up to $14,492.50, per inspection cycle
New proposed modification | 1 work-hour × $85 per hour = $85 | Negligible | $85 | $28,985

The FAA estimates the following costs to do any necessary on-condition replacement of the elastomeric energy absorber that would be required based on the results of any required inspections. The FAA has no way of determining the number of helicopters that might need this on-condition action:

Estimated Costs of On-Condition Actions
Labor cost | Parts cost | Cost per product
0.50 work-hour × $85 per hour = $42.50 | $2,152 | $2,194.50

According to the manufacturer, some or all of the costs of this proposed AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-05-06, Amendment 39-19588 (84 FR 8961, March 13, 2019); and

b. Adding the following new AD:

Airbus Helicopters Deutschland GmbH: Docket No. FAA-2021-0611; Project Identifier MCAI-2021-00038-R.

(a) Comments Due Date

The FAA must receive comments on this airworthiness directive (AD) by September 17, 2021.

(b) Affected ADs

This AD replaces AD 2019-05-06, Amendment 39-19588 (84 FR 8961, March 13, 2019) (AD 2019-05-06).

(c) Applicability

This AD applies to Airbus Helicopters Deutschland GmbH Model EC135P1, EC135P2, EC135P2+, EC135P3, EC135T1, EC135T2, EC135T2+, and EC135T3 helicopters, all serial numbers up to 1276 inclusive, certificated in any category, with an affected hoist as identified in European Union Aviation Safety Agency (EASA) AD 2021-0011, dated January 12, 2021 (EASA AD 2021-0011).

(d) Subject

Joint Aircraft System Component (JASC) Code 2500, Cabin Equipment/Furnishings.

(e) Unsafe Condition

This AD was prompted by a report that a hook detached from the hoist cable. The FAA is issuing this AD to address detachment of a hook from a hoist cable resulting in in-flight failure of the hoist, which could result in injury to persons being lifted.

(f) Compliance

Comply with this AD within the compliance times specified, unless already done.

(g) Retained Requirements of Paragraph (e) of AD 2019-05-06

This paragraph restates the requirements of paragraph (e) of AD 2019-05-06 with no changes. For Model EC135P1, EC135P2, EC135P2+, EC135P3, EC135T1, EC135T2, EC135T2+, and EC135T3 helicopters: Within 90 hours time-in-service (TIS) after April 17, 2019 (the effective date of AD 2019-05-06) and thereafter at intervals not to exceed 180 hours TIS:

(1) Inspect the hook assembly and determine whether the elastomeric energy absorber has taken a permanent compression set by following the Accomplishment Instructions, paragraphs 2.A and 2.B, of Goodrich Service Bulletin No. 44301-10-17, Revision 4, dated July 26, 2017 (SB 44301-10-17). If the elastomeric energy absorber has taken a permanent compression set, replace the elastomeric energy absorber before the next hoist operation.

(2) Replace the retaining ring by following the Accomplishment Instructions, paragraphs 2.D through 2.K, of SB 44301-10-17.

(h) New Requirements

Except as specified in paragraph (i) of this AD: Comply with all required actions and compliance times specified in, and in accordance with, EASA AD 2021-0011.

(i) Exceptions to EASA AD 2021-0011

(1) Where EASA AD 2021-0011 refers to its effective date, this AD requires using the effective date of this AD.

(2) Paragraphs (1) and (2) of EASA AD 2021-0011 do not apply to this AD. The equivalent FAA requirements are specified in paragraph (g) of this AD.

(3) The “Remarks” section of EASA AD 2021-0011 does not apply to this AD.

(4) Where the service information referenced in EASA AD 2021-0011 specifies to discard certain parts, this AD requires removing those parts from service.

(5) Where paragraph (3) of EASA AD 2021-0011 specifies to modify using “the instructions of the modification ASB,” this AD requires using “paragraph 3.B.1 and 3.B.2 of the Accomplishment Instructions of the modification ASB.”

(6) Where the service information referenced in EASA AD 2021-0011 specifies to use tooling, equivalent tooling may be used.

(7) Accomplishing the modification specified in paragraph (3) of EASA AD 2021-0011 or the replacement specified in paragraph (4) of EASA AD 2021-0011 terminates the repetitive actions required by paragraph (g) of this AD.

(8) Where paragraph (6) of EASA AD 2021-0011 refers to October 25, 2017 (the effective date of EASA AD 2017-0199), this AD requires using the effective date of this AD; and where paragraph (6) of EASA AD 2021-0011 specified to do actions “as required by paragraph (1) of this [EASA] AD,” for this AD, do the actions required by paragraph (g) of this AD.

(9) Paragraph (7) of EASA AD 2021-0011 does not apply to this AD. For this AD, for helicopters that do not have an affected hoist identified in paragraph (c) of this AD installed: As of the effective date of this AD, do not install an affected hoist identified in paragraph (c) of this AD on any helicopter.

(j) Special Flight Permit

Special flight permits may be issued in accordance with 14 CFR 21.197 and 21.199 to operate the helicopter to a location where the required actions can be done to the helicopter (if the operator elects to do so), provided the hoist is not used.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l)(5) of this AD. Information may be emailed to: 9-AVS-AIR-730-AMOC@faa.gov.

(2) Before using any approved AMOC, notify your appropriate principal inspector, or lacking a principal inspector, the manager of the local flight standards district office/certificate holding district office.

(l) Related Information

(1) For EASA AD 2021-0011, contact the EASA, Konrad-Adenauer-Ufer 3, 50668 Cologne, Germany; telephone +49 221 8999 000; email ADs@easa.europa.eu; internet www.easa.europa.eu. You may find this EASA AD on the EASA website at https://ad.easa.europa.eu.

(2) For Goodrich service information identified in this AD, contact Airbus Helicopters, 2701 N Forum Drive, Grand Prairie, TX 75052; telephone (972) 641-0000 or (800) 232-0323; fax (972) 641-3775; or at https://www.airbus.com/helicopters/services/technical-support.html.

(3) You may view this material at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0611.

(4) Airbus Helicopters Alert Service Bulletin No. ASB EC135-85A-069, Revision 0, dated August 2, 2017, which is not incorporated by reference, contains additional information about the actions specified in paragraph (g) of this AD.

(5) For more information about this AD, contact Jacob Fitch, Aerospace Engineer, COS Program Management Section, Operational Safety Branch, Compliance & Airworthiness Division, FAA, 10101 Hillwood Pkwy., Fort Worth, TX 76177; phone: (817) 222-4130; email: jacob.fitch@faa.gov.

Issued on July 27, 2021.
Lance T. Gant,
Director, Compliance & Airworthiness Division, Aircraft Certification Service.

[FR Doc. 2021-16467 Filed 8-2-21; 8:45 am]

BILLING CODE 4910-13-P